DEPARTMENT OF TRANSPORTATION

Federal Highway Administration

Notice of Final Federal Agency Actions on Proposed Roadway in California

AGENCY: Federal Highway Administration (FHWA), Department of Transportation (DOT).

ACTION: Notice of limitation on claims for judicial review of actions by the California Department of Transportation (Caltrans).

SUMMARY: The FHWA, on behalf of Caltrans, is issuing this notice to announce actions taken by Caltrans that are final. The actions relate to a proposed roadway project, the I-10 Bypass: Banning to Cabazon Project from the intersection of Hathaway Street and Westward Avenue in the City of Banning, to the intersection of Bonita Avenue and Apache Trail in the unincorporated community of Cabazon, for approximately 3.3 miles of new roadway in the County of Riverside, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before April 18, 2022. If the Federal law that authorizes judicial review of a claim provides a time period of less than 150 days for filing such claim, then that shorter time period still applies.

FOR FURTHER INFORMATION CONTACT: For Caltrans: Aaron Burton, Senior Environmental Planner, Caltrans-District 8, Environmental Local Assistance, 464 West Fourth Street, MS 760, San Bernardino, CA 92401, weekdays 9:00 a.m. to 3:00 p.m., telephone (909) 383-2841, email aaron.burton@dot.ca.gov. For FHWA, contact David Tedrick at (916) 498-5024, or email david.tedrick@dot.gov.

SUPPLEMENTARY INFORMATION: Effective July 1, 2007, FHWA assigned, and Caltrans assumed, environmental responsibilities for this project pursuant to 23 U.S.C. 327. Notice is hereby given that the Caltrans has taken final agency actions subject to 23 U.S.C. 139(l)(1) by issuing licenses, permits, and approvals for the following highway project in the State of California: the I-10 Bypass: Banning to Cabazon Project (Federal Project No. DEMO03L 5956 [210]), which would construct a new two-lane roadway extending approximately 3.3 miles from the intersection of Hathaway Street and Westward Avenue in the City of Banning to the intersection of Bonita Avenue and Apache Trail in the unincorporated community of Cabazon in order to provide a local roadway connecting these two communities, improve local transportation facilities, and provide safe bicycle and pedestrian facilities. The actions by the Federal agencies, and the laws under which such actions were taken, are described in the Final Environmental Assessment (Final EA) for the project, approved on October 6, 2021, in the Finding of No Significant Impact (FONSI) issued on October 6, 2021, and in other documents in the Caltrans project records. The Final EA/FONSI, and other project records are available by contacting Caltrans at the address provided above. The Caltrans Final EA and FONSI can be viewed and downloaded from the project website at https://rcprojects.org/i10bypass or viewed at Caltrans District 8 or the Riverside County Transportation Department.

This notice applies to all Federal agency decisions as of the issuance date of this notice and all laws under which such actions were taken, including but not limited to:

1. E.O. 12372, Intergovernmental Review;

2. E.O. 11990, Protection of Wetlands;

3. E.O. 12088, Pollution Control Standards;

4. E.O. 13112, Invasive Species;

5. E.O. 11988, Floodplain Management;

6. Council on Environmental Quality regulations;

7. National Environmental Policy Act (NEPA);

8. Department of Transportation Act of 1996;

9. Federal Aid Highway Act of 1970;

10. Clean Air Act Amendments of 1990;

11. Department of Transportation Act of 1966; Section 4(f);

12. Clean Water Act of 1977 and 1987;

13. Endangered Species Act of 1973;

14. Migratory Bird Treaty Act;

15. National Historic Preservation Act of 1966, as amended; and

16. Historic Sites Act of 1935.

(Catalog of Federal Domestic Assistance Program Number 20.205, Highway Planning and Construction. The regulations implementing Executive Order 12372 regarding intergovernmental consultation on Federal programs and activities apply to this program.)

Authority: 23 U.S.C. 139(l)(1)

Issued on: November 10, 2021.
Rodney Whitfield,
Director, Financial Services, Federal Highway Administration, California Division.

[FR Doc. 2021-25033 Filed 11-16-21; 8:45 am]

BILLING CODE 4910-RY-P